DEPARTMENT OF HOUSING AND URBAN DEVELOPMENT

[Docket No. FR-5690-N-10]

60-Day Notice of Proposed Information Collection: Promise Zones

AGENCY: Office of the Assistant Secretary for Public and Indian Housing, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: October 7, 2013.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-5564 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW., (L'Enfant Plaza, Room 2206), Washington, DC 20410; telephone 202-402-4109. This is not a toll-free number. Persons with hearing or speech impairments may access this number through TTY by calling the toll-free Federal Relay Service at (800) 877-8339. Copies of available documents submitted to OMB may be obtained from Ms. Mussington.

SUPPLEMENTARY INFORMATION: This notice informs the public that HUD is seeking approval from OMB for the information collection described in Section A.

A. Overview of Information Collection

Title of Information Collection: Promise Zones.

OMB Approval Number: Pending OMB approval.

Type of Request: New Collection.

Form Number: Pending Assignment.

Description of the need for the information and proposed use: Under the Promise Zones initiative, the federal government will invest and partner with high-poverty urban, rural, and tribal communities to create jobs, increase economic activity, improve educational opportunities, leverage private investment, and reduce violent crime. Additional information about the Promise Zones initiative can be found at www.hud.gov/promisezones, and questions can be addressed to promisezones@hud.gov. This notice estimates burden for applying for the designation.

Respondents (i.e. affected public): State, Local, or Tribal Governments.

Information collection | Number of respondents | Frequency of response | Responses per annum | Burden hour per response | Annual burden hours | Hourly cost per response | Annual cost
Qualifying Criteria/Need—City and Neighborhood Maps | 78 | 1 | 1 | 1 | 78 | $40 | $3120
Local leadership support—Documentation | 78 | 1 | 1 | 1 | 78 | 40 | 3120
Need—Poverty rate | 78 | 1 | 1 | 1 | 78 | 40 | 3120
Need—Crime rate | 78 | 1 | 1 | 1 | 78 | 40 | 3120
Need—Employment rate | 78 | 1 | 1 | 1 | 78 | 40 | 3120
Need—Vacancy rate | 78 | 1 | 1 | 1 | 78 | 40 | 3120
Strategy—Community Assets and Neighborhood Position | 78 | 1 | 1 | 1 | 78 | 40 | 3120
Strategy—Narrative | 78 | 1 | 1 | 2 | 156 | 40 | 6240
Strategy—Evidence base | 78 | 1 | 1 | 1 | 78 | 40 | 3120
Strategy—Sustainability and financial feasibility | 78 | 1 | 1 | 1 | 78 | 40 | 3120
Capacity—Lead documentation | 78 | 1 | 1 | 1 | 78 | 40 | 3120
Capacity—Partner documentation | 78 | 1 | 1 | 1.5 | 117 | 40 | 4680
Capacity—Partner Organization Chart | 78 | 1 | 1 | 2 | 156 | 40 | 6240
Capacity—Local government | 78 | 1 | 1 | 1 | 78 | 40 | 3120
Capacity—Partnership commitments documentation | 78 | 1 | 1 | 1.5 | 117 | 40 | 4680
Total | 78 | 1 | 1 | 18 | 1404 | 40 | 56,160

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: August 1, 2013.
Merrie Nichols-Dixon,
Deputy Director, Office of Policy, Programs and Legislative Initiatives.

[FR Doc. 2013-18992 Filed 8-6-13; 8:45 am]

BILLING CODE 4210-67-P